DEPARTMENT OF DEFENSE

Office of the Secretary

[Docket ID: DOD-2017-OS-0043]

Proposed Collection; Comment Request

AGENCY: Office of the Under Secretary of Defense for Personnel & Readiness (OUSD (P&R)), Office of the Assistant Secretary of Defense for Readiness (OASD(R)), DoD.

ACTION: 60-Day information collection notice.

SUMMARY: In compliance with the Paperwork Reduction Act of 1995, the Office of the Under Secretary of Defense for Personnel and Readiness announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by November 21, 2017.

ADDRESSES: You may submit comments, identified by docket number and title, by any of the following methods:

• Federal eRulemaking Portal: http://www.regulations.gov. Follow the instructions for submitting comments.

• Mail: Department of Defense, Office of the Deputy Chief Management Officer, Directorate for Oversight and Compliance, Regulatory and Advisory Committee Division, 4800 Mark Center Drive, Mailbox #24, Suite 08D09B, Alexandria, VA 22350-1700.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Office of Operation Live Well, Office of Personnel Risk & Resiliency (PRR), Office of the Undersecretary of Defense, Personnel & Readiness (OUSD P&R), ATTN: CAPT Kimberly Elenberg, The Pentagon, Washington, DC 20301, or call Building Healthy Military Communities Support, Operation Live Well, at (703) 693-2214.

SUPPLEMENTARY INFORMATION: Title; Associated Form; and OMB Number: Building Healthy Military Communities (BHMC) Pilot Rapid Needs Assessment (RNA); OMB Control No. 0704-XXXX.

Needs and Uses: The information collection requirement is necessary to establish a baseline assessment of readiness requirements and available resources to support these requirements at a state level, as well as to identify current gaps in resources for Service members across all components.

Affected Public: Individuals or households, Business or other for profit; Not-for-profit institutions, State, local, or tribal government.

Annual Burden Hours: 420 hours.

Number of Respondents: 280.

Responses per Respondent: 1.

Annual Responses: 280.

Average Burden per Response: 90 minutes.

Frequency: One-Time.

The Building Healthy Military Communities (BHMC) pilot is a multi-year initiative that aims to better understand unique challenges faced by geographically dispersed Service members and their families that may impact force readiness and well-being. The BHMC pilot is conducting a Rapid Needs Assessment (RNA) to establish a baseline assessment of readiness requirements and available resources to support these requirements at a state level, as well as to identify current gaps in resources for Service members across all components. The RNA is part of an effort to enrich the DoD's methodology for creating a well-informed strategic plan aimed at optimizing force readiness and well-being through community capacity building and better coordination among DoD and non-DoD resources. To conduct this assessment, the Office of the Assistant Secretary of Defense for Readiness (OASD(R)), in collaboration with the National Guard Bureau (NGB), Uniformed Services University of the Health Sciences (USUHS), and the Services within the Reserve Component, will conduct interviews with program representatives at the federal, DoD, state, and local community level to gather qualitative data on their programs and services, the population(s) served by their programs, and the program manager's observations on salient issues impacting the well-being of Service members and their families. The in-person interviews conducted during the RNA will give a unique perspective into all Services and components regarding gaps in available resources that impact readiness and well-being. The RNA is a one-time event expected to last from November 2017 to April 2018.

Dated: September 19, 2017.
Aaron Siegel,
Alternate OSD Federal Register Liaison Officer, Department of Defense.

[FR Doc. 2017-20309 Filed 9-21-17; 8:45 am]

BILLING CODE 5001-06-P